DEPARTMENT OF ENERGY

Federal Energy Regulatory Commission

Combined Notice of Filings #1

Take notice that the Commission received the following electric corporate filings:

Docket Numbers: EC12-103-000.

Applicants: Emera Incorporated, Algonquin Power & Utilities Corp.

Description: Application under FPA Section 203 of Emera Incorporated and Algonquin Power & Utilities Corp.

Filed Date: 5/14/12.

Accession Number: 20120514-5145.

Comments Due: 5 p.m. ET 6/4/12.

Take notice that the Commission received the following electric rate filings:

Docket Numbers: ER10-1141-001; ER10-1139-001; ER10-1151-004; ER10-1103-001; ER10-1123-001; ER10-3247-004.

Applicants: Ameren Energy Marketing Company, Ameren Energy Generating Company, Electric Energy Inc., AmerenEnergy Medina Valley Cogen, LLC, AmerenEnergy Resources Generating Company, Ameren Illinois Company, Union Electric Company.

Description: Addendum to Triennial Market Power Update of Ameren Companies.

Filed Date: 5/1/12.

Accession Number: 20120501-5447.

Comments Due: 5 p.m. ET 5/22/12.

Docket Numbers: ER12-1351-001.

Applicants: PJM Interconnection, LLC.

Description: Errata filing to correct Section 3.2 of the PJM OATT Att K Appx & OA Schedule 1 to be effective 4/1/2012.

Filed Date: 5/14/12.

Accession Number: 20120514-5075.

Comments Due: 5 p.m. ET 6/4/12.

Docket Numbers: ER12-1764-000.

Applicants: Amplified Power & Gas, LLC.

Description: Supplement the record Docx 2010 problem to be effective N/A.

Filed Date: 5/14/12.

Accession Number: 20120514-5034.

Comments Due: 5 p.m. ET 6/4/12.

Docket Numbers: ER12-1775-000.

Applicants: Southern Energy Solution Group, LLC.

Description: Southern Energy Initial MBR Filing to be effective 5/9/2012.

Filed Date: 5/14/12.

Accession Number: 20120514-5035.

Comments Due: 5 p.m. ET 6/4/12.

Docket Numbers: ER12-1776-000.

Applicants: The Dayton Power and Light Company.

Description: FERC Electric Tariff, Volume No. 10 to be effective 5/14/2012.

Filed Date: 5/14/12.

Accession Number: 20120514-5039.

Comments Due: 5 p.m. ET 6/4/12.

Docket Numbers: ER12-1777-000.

Applicants: The Dayton Power and Light Company.

Description: FERC Electric Tariff, Volume No. 6 to be effective 5/14/2012.

Filed Date: 5/14/12.

Accession Number: 20120514-5048.

Comments Due: 5 p.m. ET 6/4/12.

Docket Numbers: ER12-1778-000.

Applicants: DPL Energy, LLC.

Description: FERC Rate Schedule No. 1 to be effective 5/14/2012.

Filed Date: 5/14/12.

Accession Number: 20120514-5070.

Comments Due: 5 p.m. ET 6/4/12.

Docket Numbers: ER12-1779-000.

Applicants: Southwest Power Pool, Inc.

Description: Rate Schedule No. 11 Balanced Portfolio Compliance from ER09-659 and EL12-2 to be effective 5/14/2012.

Filed Date: 5/14/12.

Accession Number: 20120514-5093.

Comments Due: 5 p.m. ET 6/4/12.

Docket Numbers: ER12-1780-000.

Applicants: PPL Ironwood, LLC.

Description: Notice of Succession and Change in Status Notice to be effective 5/14/2012.

Filed Date: 5/14/12.

Accession Number: 20120514-5097.

Comments Due: 5 p.m. ET 6/4/12.

Docket Numbers: ER12-1781-000.

Applicants: PJM Interconnection, LLC.

Description: Original Service Agreement No. 3319; Queue No. W4-004A_AT10 to be effective 5/1/2012.

Filed Date: 5/14/12.

Accession Number: 20120514-5108.

Comments Due: 5 p.m. ET 6/4/12.

Docket Numbers: ER12-1782-000.

Applicants: Duke Energy Carolinas, LLC.

Description: Amendment to Formula Transmission Rate to be effective 6/1/2011.

Filed Date: 5/14/12.

Accession Number: 20120514-5123.

Comments Due: 5 p.m. ET 6/4/12.

Docket Numbers: ER12-1783-000.

Applicants: MXenergy Electric Inc.

Description: Cancellation of MBR Tariff to be effective 5/15/2012.

Filed Date: 5/14/12.

Accession Number: 20120514-5124.

Comments Due: 5 p.m. ET 6/4/12.

Docket Numbers: ER12-1784-000.

Applicants: PJM Interconnection, LLC.

Description: Revisions to PJM Tariff, OA and RAA removing Obsolete References to be effective 7/18/2012.

Filed Date: 5/14/12.

Accession Number: 20120514-5125.

Comments Due: 5 p.m. ET 6/4/12.

Docket Numbers: ER12-1785-000.

Applicants: California Independent System Operator Corporation.

Description: 2012-05-14 CAISO Credit Reforms Comp Filing to be effective 4/30/2012.

Filed Date: 5/14/12.

Accession Number: 20120514-5174.

Comments Due: 5 p.m. ET 6/4/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 15, 2012.
Nathaniel J. Davis, Sr.,
Deputy Secretary.

[FR Doc. 2012-12312 Filed 5-21-12; 8:45 am]

BILLING CODE 6717-01-P